FEDERAL MARITIME COMMISSION

Ocean Transportation Intermediary License; Applicant

Notice is hereby given that the following applicant has filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier and Ocean Freight Forwarder Transportation Intermediary Applicants

Global Cargo Group, Inc. dba ACI Logistics, 9300 NW 25 Street, Miami, FL 33172. Officers: Andres Hernandez, Vice President (Qualifying Individual); Maria Hernandez, President.

Dated: April 11, 2008.
Karen V. Gregory,
Assistant Secretary.

[FR Doc. E8-8172 Filed 4-15-08; 8:45 am]

BILLING CODE 6730-01-P